DEPARTMENT OF ENERGY

Federal Energy Regulatory Commission

[Docket No. CP02-428-000]

Ozark Gas Transmission, L.L.C.; Notice of Application

August 30, 2002.

Take notice that on August 23, 2002, Ozark Gas Transmission, L.L.C. (Ozark), 515 Central Park Drive, Suite 600, Oklahoma City, Oklahoma 73105, filed in Docket No. CP02-428-000, an application pursuant to Section 7(b) of the Natural Gas Act (NGA), as amended, and Part 157 of the regulations of the Federal Energy Regulatory Commission (Commission), for authorization to abandon facilities by sale or transfer and for a declaration that certain facilities will be exempt gathering facilities following their transfer, all as more fully set forth in the application which is on file with the Commission and open to public inspection. This filing is available for review at the Commission in the Public Reference Room or may be viewed on the Commission's Web site at http://www.ferc.gov using the “FERRIS” link. Enter the docket number excluding the last three digits in the docket number field to access the document. For Assistance, call (202)502-8222 or for TTY, (202) 208-1659.

Ozark states that it is asking the Commission to issue an order granting permission and approval for Ozark to abandon certain jurisdictional facilities by sale to another interstate pipeline to accommodate service to a new electric generating facility currently under construction, and to transfer certain related lateral facilities to others which are to be non-jurisdictional gathering facilities.

Specifically, Ozark is seeking authorization to: (1) Abandon by sale to Reliant Energy Gas Transmission Company (REGT) a 28.97 mile segment of Ozark's interstate pipeline system in Pittsburg and Latimer Counties, Oklahoma, including certain associated lateral pipelines and facilities (REGT Transferred Facilities); and (2) to abandon by transfer to Ozark's gathering pipeline affiliate, Ozark Gas Gathering, L.L.C. (OGG), the Moss Lateral pipeline and associated facilities (Moss Lateral Facilities), which are interconnected with the facilities to be sold to REGT near milepost 252 of the current Ozark mainline pipeline. Ozark states that it is also requesting a Commission determination that the Moss Lateral Facilities will be gathering facilities exempt from NGA regulation once they have been abandoned by Ozark.

According to Ozark, REGT intends to use the REGT Transferred Facilities to deliver gas to the 1,220 MW Kiamichi Energy Facility (Kiamichi Facility), a new, combined-cycle, natural gas-fired electric generating facility which is currently under construction in Pittsburg County near Kiowa, Oklahoma. The Kiamichi Facility, which is being developed by Kiowa Power Partners, LLC, is expected to commence commercial operation in April 2003.

As stated by Ozark, REGT plans to acquire the REGT Transferred Facilities, to provide service on the REGT Transferred Facilities and to perform associated construction pursuant to its blanket construction certificate and Section 157.208 of the Commission's Regulations. REGT has informed Ozark that it will file a “prior notice” concerning its proposed acquisition and related construction shortly after the Commission gives notice of Ozark's Application.

Ozark states that the shippers whose gas currently is transported through the facilities Ozark proposes to abandon will not be harmed by the proposed transaction. REGT will continue to operate the REGT Transferred Facilities and provide transportation access to all interconnected producers and parties purchasing their gas. The other facilities to be abandoned in this proceeding will not be retired as part of Ozark's abandonment in this proceeding;¹ these facilities will continue to be operated, albeit by OGG, rather than by Ozark. Similarly, Ozark's existing gas transmission operations will not be detrimentally affected. Following the proposed abandonments and transfers, Ozark states that it will continue to provide services previously authorized by the Commission on the remainder of its pipeline system, east of the REGT Transferred Facilities. There will be no reduction in the overall capacity of the Ozark system.

¹ OGG does plan to retire one interconnection which is not currently being used following the transfer of the Moss Lateral Facilities.

Ozark states that it and REGT have entered into an Agreement for Purchase and Sale, dated August 2, 2002, that will govern the sale of the REGT Transferred Facilities.

Ozark states that it and OGG have entered into an Asset Transfer Agreement, dated August 22, 2002, that will govern the transfer of the Moss Lateral Facilities, at net book value, from Ozark to OGG.

It is noted that the Kiamichi Facility may require natural gas transportation service on Ozark to test its facilities before the proposed abandonment, sale, purchase and construction will be completed. Accordingly, to provide for services to the Kiamichi Facility from October 1, 2002 until the earlier of July 1, 2003 or the commercial operation date of April 1, 2003, it is explained that Ozark and REGT have entered into an interruptible transportation service agreement under Ozark's Rate Schedule ITS for transportation of up to 240,000 MMBtu on the Ozark system. Similarly, to meet the Kiamichi Facility's need for firm service beginning on the earlier of July 1, 2003, or the commercial operation date of April 1, 2003, Ozark and REGT have entered into a firm transportation service agreement under Ozark's Rate Schedule FTS for transportation of up to 240,000 MMBtu on the Ozark system.

Any questions concerning this application may be directed to James F. Bowe, Jr., Hugh E. Hilliard, Dewey Ballantine LLP, 1775 Pennsylvania Avenue NW, Washington, DC 20006-4605, at (202) 862-1000 or fax (202) 862-1093; or Marla K. Adams, Manager, Governmental Affairs, Enogex Inc., 515 Central Park Drive, Suite 600, Oklahoma City, OK 73105, at (405) 557-5274 or fax (405) 557-7903.

There are two ways to become involved in the Commission's review of this project. First, any person wishing to obtain legal status by becoming a party to the proceedings for this project should, on or before September 20, 2002, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

Comments, protests and interventions may be filed electronically via the Internet in lieu of paper. The Commission strongly encourages electronic filings. See, 18 CFR 385.2001(a)(1)(iii) and the instructions on the Commission's Web site under the “e-Filing” link.

If the Commission decides to set the application for a formal hearing before an Administrative Law Judge, the Commission will issue another notice describing that process. At the end of the Commission's review process, a final Commission order approving or denying a certificate will be issued.

Magalie R. Salas,
Secretary.

[FR Doc. 02-22706 Filed 9-5-02; 8:45 am]

BILLING CODE 6717-01-P